COMMODITIES FUTURE TRADING COMMISSION

Sunshine Act Meetings

AGENCY: Commodity Futures Trading

Time and Date: 1 p.m., Wednesday, December 17, 2003.

Place: 1155 21st St., NW., Washington, DC, Room 1012.

Status: Open.

Matters to be Considered: The Commission will hold a hearing to receive testimony from industry participants relating to the Commission's consideration of the application of U.S. Furtures Exchange, LLC, for contract market designation.

FOR FURTHER INFORMATION CONTACT: Jean A. Webb, (202) 418-5100 or http://www.cftc.gov.

Jean A. Webb,
Secretary of the Commission.

[FR Doc. 03-30712 Filed 12-8-03; 1:07 pm]

BILLING CODE 6351-01-M